DEPARTMENT OF AGRICULTURE

Forest Service

Fresno County Resource Advisory committee

AGENCY: Forest Service, USDA.

ACTION: Notice of meeting.

SUMMARY: The Fresno County Resource Advisory Committee will meet in Prather, California. The purpose of the meeting is to discuss and to receive project proposals regarding the Secure Rural Schools and Community Self-Determination Act of 2000 (Public Law 106-393) for expenditure of Payments to States Fresno County Title II funds.

DATES: The meeting will be held October 15, 2002.

ADDRESSES: 29688 Auberry Road, Prather, California. The meeting will be held at the Sierra National Forest, High Sierra District Ranger office, 29688 Auberry Road, Prather, California 93651. Send written comments to Nancy Fleenor, Fresno County Resource Advisory Committee Coordinator, c/o Sierra National Forest, High Sierra Ranger District, 29688 Auberry Road, Prather, CA 93651 or electronically to nfleenor@fs.fed.us.

FOR FURTHER INFORMATION CONTACT: Nancy Fleenor, Fresno County Resource Advisory Committee Coordinator, (559) 855-5355 ext. 3350.

SUPPLEMENTARY INFORMATION: The meeting is open to the public. Committee discussion is limited to Forest Service staff and Committee members. However, persons who wish to bring Payments to States Fresno County Title II project matters to the attention of the Committee may file written statements with the Committee staff before or after the meeting. Public sessions will be provided and individuals who made written requests by October 15, 2002 will have the opportunity to address the Committee at those sessions. Agenda items to be covered include: (1) Review and approve the September 17, 2002 meeting notes; (2) discuss new business of the RAC if applicable; (3) discuss the progress of the 2001 funded projects; (4) consideration of Title II Project proposals from the public and/or the RAC members; (5) confirm the date, location and agenda of the next meeting; (6) public comment.

Dated: September 18, 2002.
Ray Porter,
District Ranger.

[FR Doc. 02-24545 Filed 9-26-02; 8:45 am]

BILLING CODE 3410-11-M